DEPARTMENT OF HOMELAND SECURITY

Federal Emergency Management Agency

44 CFR Part 67

[Docket No. FEMA-7772]

Rescission of Final Flood Elevation Determination

AGENCY: Federal Emergency Management Agency, Emergency Preparedness and Response Directorate, Department of Homeland Security.

ACTION: Final rule.

SUMMARY: The Federal Emergency Management Agency (FEMA or Agency) rescinds the final flood elevation determination published for Collier County, Florida and Incorporated Areas (including the City of Everglades, City of Naples, City of Marco Island, and the Unincorporated Areas of Collier County), on June 2, 2003, at 68 FR 32665 and 32666. A final flood elevation determination will be made at a later date.

EFFECTIVE DATE: This rescission is effective as of the date of this publication.

FOR FURTHER INFORMATION CONTACT: Doug Bellomo, P.E., Hazard Identification Section, Emergency Preparedness and Response Directorate, Federal Emergency Management Agency, 500 C Street SW., Washington, DC 20472, (202) 646-2903.

SUPPLEMENTARY INFORMATION: FEMA published a notice of final flood elevation determination for Collier County, Florida and Incorporated Areas, on June 2, 2003, at FR 68, 32665 and 32666. Following coordination with Collier County, it was determined that additional time is needed to develop flood hazard data for the Golden Gates Estates area located within the Unincorporated Areas of Collier County and the City of Naples. Therefore, the final flood elevation for Collier County, Florida and Incorporated Areas is hereby rescinded in accordance with Section 110 of the Flood Disaster Protection Act of 1973, 42 U.S.C. 4104 until further notice.

Dated: September 30, 2003.
Anthony S. Lowe,
Mitigation Division Director, Emergency Preparedness and Response Direcorate.

[FR Doc. 03-25344 Filed 10-6-03; 8:45 am]

BILLING CODE 6718-03-P